DEPARTMENT OF ENERGY

Federal Energy Regulatory Commission

[Project No. 11959-002]

Symbiotics, LLC.; Notice of Surrender of Preliminary Permit

March 28, 2002.

Take notice that Symbiotics, LLC., permittee for the proposed Savage Rapids Dam Project, has requested the Commission to accept the voluntary surrender of its preliminary permit. The permit was issued on September 27, 2001, and would have expired on August 31, 2004. The project would have been located on the Rogue River, in Josephine and Jackson Counties, Oregon.

The permittee filed the request on March 20, 2002, and the preliminary permit for Project No. 11959 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-8002 Filed 3-29-02; 8:45 am]

BILLING CODE 6717-01-P